NATIONAL SCIENCE FOUNDATION

Engineering Advisory Committee; Notice of Meeting

In accordance with Federal Advisory Committee Act (Pub. L. 92-463, as amended), the National Science Foundation announces the following meeting:

Name: Engineering Advisory Committee Meeting, #1170.

Date/Time: April 22, 2009: 12 p.m. to 6 p.m., April 23, 2009: 8 a.m. to 12 p.m.

Place: National Science Foundation, 4201 Wilson Boulevard, Suite 1235, Arlington, Virginia 22230.

Type of Meeting: Open.

Contact Person: Deborah Young, National Science Foundation, 4201 Wilson Boulevard, Suite 505, Arlington, Virginia 22230.

Purpose of Meeting: To provide advice, recommendations and counsel on major goals and policies pertaining to engineering programs and activities.

Agenda:

Wednesday, April 22

• Introductions and Directorate Updates.

• Broadening Participation Update and Performance.

• Emerging Frontiers in Research and Innovation Update.

• Discussion—Methods for Evaluating Success.

• Sustainable Systems Presentation.

Thursday, April 23

• Industry-University Partnerships.

• Partnerships with Agencies.

• Discussion with Director and Deputy Director, NSF.

Dated: March 26, 2009.
Susanne Bolton,
Committee Management Officer.

[FR Doc. E9-7194 Filed 3-31-09; 8:45 am]

BILLING CODE 7555-01-P